FEDERAL COMMUNICATIONS COMMISSION

47 CFR Part 74

[WT Docket Nos. 08-166; 08-167; ET Docket No. 10-24; FCC 14-62]

Information Collection Approval for the Rules Regarding Low Power Auxiliary Stations, Including Wireless Microphones

AGENCY: Federal Communications Commission.

ACTION: Announcement of approval date for information collection.

SUMMARY: In this document, the Commission announces that the Office of Management and Budget (OMB) approved on December 5, 2014, for a period for three years, a revision to an information collection for the FCC Application for Radio Service Authorization for the Wireless Telecommunications Bureau and the Public Safety and Homeland Security Bureau, FCC Form 601. With this document, the Commission is announcing OMB approval and the effective date of the revised requirements for FCC Form 601.

DATES: FCC Form 601 was approved by OMB on December 5, 2014 and is effective on December 29, 2014.

FOR FURTHER INFORMATION CONTACT: For additional information contact Cathy Williams, Cathy.Williams@fcc.gov, (202) 418-2918.

SUPPLEMENTARY INFORMATION: This document announces that, on December 5, 2014, OMB approved the revised information collection requirements for FCC Application for Radio Service Authorization for the Wireless Telecommunications Bureau and the Public Safety and Homeland Security Bureau FCC Form 601 published at 79 FR 40680 on July 14, 2014. The OMB Control Number is 3060-0798. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-0798, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on December 5, 2014, for the revised information collection requirements contained in the information collection 3060-0798.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0798. The foregoing document is required by the Paperwork Reduction Act of 1995, Pub. L. 104-13, October 1, 1995, and 44 U.S.C. 3507. The total annual reporting burdens and costs for the respondents are as follows:

OMB Control Number: 3060-0798.

OMB Approval Date: December 5, 2014.

OMB Expiration Date: December 31, 2017.

Title: FCC Application for Radio Service Authorization Wireless Telecommunications Bureau; Public Safety and Homeland Security Bureau.

Form No.: FCC Form 601.

Respondents: Individuals and households; Business or other for-profit; not-for-profit institutions; and state, local or tribal government.

Number of Respondents and Responses: 253,320 respondents and 253,320 responses.

Estimated Time per Response: 0.5-1.25 hours.

Frequency of Response: On occasion reporting requirement, recordkeeping requirement, every ten year reporting requirement and third party disclosure requirement.

Obligation to Respond: Required to obtain or retain benefits. The statutory authority for this collection of information is contained in 47 U.S.C. 151, 152, 154, 154(i), 155(c), 157, 201, 202, 208, 214, 301, 302a, 303, 307, 308, 309, 310, 311, 314, 316, 319, 324, 331, 332, 333, 336, 534, 535 and 554.

Total Annual Burden: 221,955 hours.

Total Annual Cost: $71,306,250.

Privacy Act Impact Assessment: Yes.

Nature and Extent of Confidentiality: In general there is no need for confidentiality with this collection of information.

Needs and Uses: FCC Form 601 is a consolidated, multi-part application form that is used for market-based and site-based licensing for wireless telecommunications services, including public safety licenses, which are filed through the Commission's Universal Licensing System (ULS). FCC Form 601 is composed of a main form that contains administrative information and a series of schedules used for filing technical and other information. This form is used to apply for a new license, to amend or withdraw a pending application, to modify or renew an existing license, cancel a license, request a duplicate license, submit required notifications, request an extension of time to satisfy construction requirements, or request an administrative update to an existing license (such as mailing address change), request a Special Temporary Authority or Developmental License. Respondents are encouraged to submit FCC Form 601 electronically and are required to do so when submitting FCC Form 601 to apply for an authorization for which the applicant was the winning bidder in a spectrum auction.

The data collected on FCC Form 601 includes the FCC Registration Number (FRN), which serves as a “common link” for all filings an entity has with the FCC. The Debt Collection Improvement Act of 1996 requires entities filing with the Commission use an FRN.

On June 2, 2014, the Commission released a Second Report and Order FCC 14-62, WT Docket Nos. 08-166 and 08-167 and ET Docket No. 10-24, “Revisions to Rules Authorizing the Operation of Low Power Auxiliary Stations in the 698-806 MHz Band.” This order expanded eligibility for low power auxiliary station licenses under Part 74 by adding two new categories of eligible entities: “Large venue owner or operator” and “professional sound company.” To accommodate these changes we are revising Schedule H of Form 601 to add two new categories of eligible entities: “Large venue owner or operator” and “professional sound company.” In order to be eligible for a Part 74 license, a large venue owner or operator and a professional sound company must routinely use 50 or more low power auxiliary station devices, where the use of such devices is an integral part of major events or productions. We also increased the number of respondents by 200 responses to include these new applicants.

The Commission received approval from OMB for a revision to its currently approved information collection on FCC Form 601 to revise Schedule H accordingly and increase the total number of respondents by 200.

Federal Communications Commission.
Marlene H. Dortch,
Secretary, Office of the Secretary Office of the Managing Director.

[FR Doc. 2014-30252 Filed 12-24-14; 8:45 am]

BILLING CODE 6712-01-P